OFFICE OF MANAGEMENT AND BUDGET

OMB Sequestration Update Report to the President and Congress for Fiscal Year 2019

AGENCY: Executive Office of the President, Office of Management and Budget.

ACTION: Notice of availability of the OMB Sequestration Update Report to the President and Congress for FY 2019.

SUMMARY: OMB is issuing the OMB Sequestration Update Report to the President and Congress for Fiscal Year 2019 to report on the status of the discretionary caps and on the compliance of pending discretionary appropriations legislation with those caps.

DATES: The report is effective on August 20, 2018.

ADDRESSES: The OMB Sequestration Reports to the President and Congress is available on-line on the OMB home page at: https://www.whitehouse.gov/omb/legislative/sequestration-reports-orders/.

FOR FURTHER INFORMATION CONTACT: Thomas Tobasko, 6202 New Executive Office Building, Washington, DC 20503, Email address: ttobasko@omb.eop.gov, telephone number: (202) 395-5745, FAX number: (202) 395-4768. Because of delays in the receipt of regular mail related to security screening, respondents are encouraged to use electronic communications.

SUPPLEMENTARY INFORMATION: Section 254 of the Balanced Budget and Emergency Deficit Control Act of 1985 requires the Office of Management and Budget (OMB) to issue a Sequestration Update Report by August 20th of each year. With regard to this update report and to each of the three required sequestration reports, section 254(b) specifically mandates that each report required by this section shall be submitted, in the case of CBO, to the House of Representatives, the Senate and OMB and, in the case of OMB, to the House of Representatives, the Senate, and the President on the day it is issued and that OMB publish a notice announcing the report in the Federal Register. For fiscal year 2018, the report finds enacted appropriations to be at the spending limits. For fiscal year 2019, the report finds that, if the current caps remain unchanged, actions to date by the House of Representatives for the 12 annual appropriations bills would remain within both the defense and non-defense caps under OMB estimates. The report also finds that actions by the Senate for non-defense programs are within the caps but slightly over the defense cap by $7 million. OMB does not believe the breach in the defense cap by the Senate would trigger a sequestration in 2019, if enacted, because the breach can be attributed to estimating differences OMB has with the Congressional Budget Office and the Congress is expected to enact and allowance (as it has done in previous years) to account for such differences. Finally, the report contains OMB's Preview Estimate of the Disaster Relief Funding Adjustment for FY 2019. The calculation of the Preview Estimate takes into account changes in the disaster formula enacted in the Consolidated Appropriations Act, 2018.

John Mulvaney,
Director.

[FR Doc. 2018-18249 Filed 8-22-18; 8:45 am]

BILLING CODE 3110-01-P